DEPARTMENT OF HOMELAND SECURITY

8 CFR Part 213a

[Docket ID: USCIS-2019-0023]

RIN 1615-AC39

Affidavit of Support on Behalf of Immigrants

AGENCY: U.S. Citizenship and Immigration Services, Department of Homeland Security (DHS).

ACTION: Proposed rule; withdrawal.

SUMMARY: The U.S. Department of Homeland Security (DHS) is withdrawing a proposed rule that published on October 2, 2020. The NPRM had proposed changes to DHS regulations governing the affidavit of support requirements under the Immigration and Nationality Act.

DATES: DHS withdraws the proposed rule published at 85 FR 62432 on October 2, 2020, as of March 22, 2021.

ADDRESSES: The docket for this withdrawn proposed rule is available at http://www.regulations.gov. Please search for docket number USCIS-2019-0023.

FOR FURTHER INFORMATION CONTACT: Mark Phillips, Residence and Naturalization Chief, Office of Policy and Strategy, U.S. Citizenship and Immigration Services, DHS, 5900 Capital Gateway Drive, Camp Springs, MD 20746; telephone 240-721-3000 (this is not a toll-free number). Individuals with hearing or speech impairments may access the telephone numbers above via TTY by calling the toll-free Federal Information Relay Service at 1-877-889-5627 (TTY/TDD).

SUPPLEMENTARY INFORMATION: On October 2, 2020, DHS published a notice of proposed rulemaking (NPRM or proposed rule) titled “Affidavit of Support for Immigrants in the Federal Register (85 FR 62432). This rule proposed to revise DHS regulations governing the affidavit of support requirements under section 213A of the Immigration and Nationality Act.

The NPRM followed from a Presidential Memorandum that President Trump issued on May 23, 2019. The 2019 Presidential Memorandum, “Enforcing the Legal Responsibilities of Sponsors of Aliens,” had directed Federal agencies to “undertake more effective oversight to ensure full compliance with Federal laws on income deeming and reimbursement.”

On February 2, 2021, President Biden issued Executive Order 14012, “Restoring Faith in Our Legal Immigration Systems and Strengthening Integration and Inclusion Efforts for New Americans.” The Executive order revoked the 2019 Presidential Memorandum. Because Executive Order 14012 revoked the 2019 Presidential Memorandum, DHS is withdrawing the October 2, 2020 NPRM that flowed from that 2019 Memorandum.

Authority

Executive Order 14012, Restoring Faith in Our legal Immigration Systems and Strengthening Integration and Inclusion Efforts for New Americans; 42 U.S.C. 5201 et seq.

Alejandro N. Mayorkas,
Secretary, U.S. Department of Homeland Security.

[FR Doc. 2021-05427 Filed 3-19-21; 8:45 am]

BILLING CODE 9111-97-P